DEPARTMENT OF HEALTH AND HUMAN SERVICES

Centers for Disease Control and Prevention

Disease, Disability, and Injury Prevention and Control Special Emphasis Panel (SEP): Early Screening and Diagnosis of Duchenne Muscular Dystrophy, Program Announcement 04216

In accordance with section 10(a)2) of the Federal Advisory Committee Act (Pub. L. 92-463), the Centers for Disease Control and Prevention (CDC) announces the following meeting:

Name: Disease, Disability, and Injury Prevention and Control Special Emphasis Panel (SEP): Early Screening and Diagnosis of Duchenne Muscular Dystrophy, Program Announcement 04216.

Times and Dates: 12:30 p.m.-1:15 p.m., August 20, 2004 (open).

1:45 p.m.-4:30 p.m., August 20, 2004 (closed).

Place: Teleconference Number: USA Toll Free 888-390-0474 Passcode 04216.

Status: Portions of the meeting will be closed to the public in accordance with provisions set forth in section 552b(c) (4) and (6), Title 5 U.S.C., and the Determination of the Director, Management Analysis and Services Office, CDC, pursuant to Public Law 92-463.

Matters To Be Discussed: The meeting will include the review, discussion, and evaluation of applications received in response to: Early Screening and Diagnosis of Duchenne Muscular Dystrophy, Program Announcement 04216.

For Further Information Contact: Owen Devine, PhD, Senior Statistician, National Center on Birth Defects and Developmental Disabilities, CDC, 1600 Clifton Road, Mailstop E-87, Atlanta, GA 30333, telephone, 404-498-3073.

The Director, Management Analysis and Services Office, has been delegated the authority to sign Federal Register notices pertaining to announcements of meetings and other committee management activities, for both CDC and the Agency for Toxic Substances and Disease Registry.

Dated: July 23, 2004.
Alvin Hall,
Director, Management Analysis and Services Office, Centers for Disease Control and Prevention.

[FR Doc. 04-17368 Filed 7-29-04; 8:45 am]

BILLING CODE 4163-18-P